DEPARTMENT OF THE INTERIOR

Fish and Wildlife Service

[FWS-R5-R-2012-N289; BAC-4311-K9-S3]

Prime Hook National Wildlife Refuge, Sussex County, DE; Final Comprehensive Conservation Plan and Environmental Impact Statement

AGENCY: Fish and Wildlife Service, Interior.

ACTION: Notice of availability; final comprehensive conservation plan and environmental impact statement.

SUMMARY: We, the U.S. Fish and Wildlife Service (Service), announce the availability for review of our final comprehensive conservation plan (CCP) and environmental impact statement (EIS) for Prime Hook National Wildlife Refuge (NWR). The CCP/EIS describes how we propose to manage the refuge for the next 15 years.

DATES: We will sign a record of decision no sooner than 30 days after the publication of this notice.

ADDRESSES: You may view or obtain copies of the final CCP/EIS by any of the following methods. You may also request a hard copy or a CD-ROM.

Agency Web site: Download a copy of the document at http://www.fws.gov/northeast/planning/Prime%20Hook/ccphome.html

Email: Send requests to northeastplanning@fws.gov. Include “Prime Hook NWR” in the subject line of your email.

U.S. Mail: Thomas Bonetti, Natural Resource Planner, U.S. Fish and Wildlife Service, 300 Westgate Center Drive, Hadley, MA 01035.

Fax: Attention: Thomas Bonetti, 413-253-8468.

In-Person Viewing or Pickup: Call 302-684-8419 to make an appointment (necessary for view/pickup only) during regular business hours at Prime Hook NWR, 11978 Turkle Pond Road, Milton, DE 19968.

FOR FURTHER INFORMATION CONTACT: Thomas Bonetti, Natural Resource Planner, 413-253-8307 (phone); northeastplanning@fws.gov (email).

SUPPLEMENTARY INFORMATION:

Introduction

With this notice, we continue the CCP process for Prime Hook NWR. We began this process through a notice of intent in the Federal Register (70 FR 60365) on

October 17, 2005, announcing that we were preparing a CCP and environmental assessment (EA). On May 9, 2011, we issued a second notice in the Federal Register (76 FR 26751) announcing our decision to prepare an EIS, rather than an EA, in conjunction with the CCP. On May 31, 2012, we announced the release of the draft CCP/EIS to the public and requested comments in a notice of availability in the Federal Register (77 FR 32131). We subsequently extended the public comment period in another notice in the Federal Register (77 FR 47435) on August 8, 2012.

This notice announces the availability of the final CCP/EIS for Prime Hook NWR in accordance with the National Environmental Policy Act (NEPA) (40 CFR 1506.6(b)). The final CCP/EIS document includes a detailed description of the three management alternatives we considered to guide us in managing and administering the refuge for the next 15 years. The document also contains a thorough analysis of impacts predicted from implementing each of the alternatives on the surrounding natural and human environments. We propose that alternative B, the Service-preferred alternative, serve as the foundation for the final, stand-alone CCP. We highlight the modifications we made to alternative B between the draft and final CCP/EIS in “Comments,” below.

Our next planning step is to complete a Record of Decision no sooner than 30 days after publication of this notice (40 CFR 1506.10(b)(2)).

Background

The CCP Process

The National Wildlife Refuge System Administration Act of 1966 (16 U.S.C. 668dd-668ee) (Refuge Administration Act), as amended by the National Wildlife Refuge System Improvement Act of 1997, requires us to develop a CCP for each NWR. The purpose for developing a CCP is to provide refuge managers with a 15-year plan for achieving refuge purposes and goals and contributing to the mission of the National Wildlife Refuge System (NWRS). CCPs should be consistent with sound principles of fish and wildlife management, conservation, legal mandates, and our policies, as well as respond to key issues and public concerns. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Prime Hook NWR

In 1963, Prime Hook NWR was established under the authority of the Migratory Bird Conservation Act “for use as an inviolate sanctuary, or any other management purpose, expressly for migratory birds.” It was established primarily to preserve coastal wetlands as wintering and breeding habitat for migratory waterfowl. The 10,133-acre refuge stretches along the west shore of Delaware Bay and is located 22 miles southeast of Dover, Delaware. Eighty percent of the refuge is tidal and freshwater wetlands that flow into the Delaware Bay and surrounding coastal marshes. The remaining 20 percent of the refuge consists of upland habitats that abut intensive agricultural and residential developments.

CCP Alternatives

During the scoping phase of the planning process, we identified a variety of major issues based on input from the public, State or Federal agencies, other Service programs, and our planning team. These issues included climate change, sea level rise, refuge marshes, habitat and wildlife species management, mosquito control, hunting and other public uses, and nuisance and invasive species control. We developed refuge management alternatives to address these issues; help achieve refuge goals, objectives, and purposes; and support the NWRS mission. Our draft CCP/EIS (77 FR 32131) and final CCP/EIS fully analyze three alternatives for the future management of the refuge: (1) Alternative A, Current Management; (2) Alternative B, Service-preferred Alternative; and (3) Alternative C, Historic Habitat Management. Alternative A satisfies the NEPA requirement of a “No Action” alternative. Both the draft and final plans identify alternative B as the Service-preferred alternative. Please refer to the final CCP/EIS for more details on each of the alternatives.

Comments

We solicited comments on the draft CCP/EIS for Prime Hook NWR from May 31 to August 27, 2012 (77 FR 32131; 77 FR 47435). During the comment period, we received 107 separate written responses, as well as a petition signed by 522 individuals, and 1,024 copies of the same form letter. We also held seven public meetings and three refuge open houses to answer questions about the draft CCP/EIS and collect oral comments. At the public meetings, we received a variety of oral comments, including 19 formal comments at our public hearing. We evaluated all of the substantive comments we received, and include a summary of those comments and our responses to them, as appendix M in the final CCP/EIS.

Changes to the Alternative B, the Service's Preferred Alternative

After considering the comments we received on our draft CCP/EIS, we have made several changes to alternative B, including adding or revising several management strategies. Below we present a brief overview of these changes; a full description of the changes is included in appendix M in the final CCP/EIS.

• We clarify that dune restoration is a likely first step in our proposal to restore marsh habitat on the refuge.

• We make several modifications to our proposed hunting program, such as allowing waterfowl hunting 4 days per week until 3 p.m. to be consistent with State regulations and modifying hunt areas to minimize disturbance to resources and reduce conflicts between users (e.g., not opening Prime Hook Creek to hunting).

• We will continue to allow year-round access to the western 4 miles of Prime Hook Creek for visitors engaged in uses such as wildlife observation, wildlife photography, and fishing.

• We decided to permit the use of adulticides for mosquito control when there is a documented human disease threat, instead of only when a public health emergency is declared.

Alternative B, with these changes, is still our preferred alternative for Prime Hook NWR for several reasons. First, alternative B comprises a mix of actions that, in our professional judgment, work best towards achieving the refuge's purposes, vision, and goals, NWRS policies, and the goals of other State and regional conservation plans. Second, we also believe that alternative B most effectively addresses key issues raised during the planning process.

Public Availability of Documents

You can view or obtain the final CCP/EIS as indicated under ADDRESSES.

Dated: December 14, 2012.
Deborah Rocque,
Acting Regional Director, Northeast Region.

[FR Doc. 2012-31365 Filed 12-27-12; 8:45 a.m.]

BILLING CODE 4310-55-P